NUCLEAR REGULATORY COMMISSION

[Docket Nos. 50-361 AND 50-362]

Southern California Edison Company, San Onofre Nuclear Generating Station, Unit Nos. 2 and 3; Notice of Issuance of Amendment to Facility Operating License

The U.S. Nuclear Regulatory Commission (Commission) has issued Amendment Nos. 180 and 171 to Facility Operating Licenses Nos. NPF-10 and NPF-15, Southern California Edison Company (SCE or the licensee), which revised the Operating License and Technical Specifications for operation of the San Onofre Nuclear Generating Station (SONGS), Units Nos. 2 and 3, located in San Diego County, California. The amendments are effective as of the date of issuance.

The amendments modified the Technical Specifications and Operating License for SONGS Units 2 and 3, to allow SCE to increase the maximum reactor core power level for each unit from 3390 megawatts thermal (MWt) to 3438 MWt, which is an increase of 1.42 percent of rated core thermal power for SONGS Units 2 and 3.

The proposed action is in accordance with the licensee's application for amendment dated April 3, 2001, and supplemented by letters dated April 23, May 11, May 25, May 31, and June 25, 2001.

The application for the amendments comply with the standards and requirements of the Atomic Energy Act of 1954, as amended (the Act), and the Commission's rules and regulations. The Commission has made appropriate findings as required by the Act and the Commission's rules and regulations in 10 CFR chapter I, which are set forth in the license amendments.

Notice of Consideration of Issuance of Amendment to Facility Operating License and Opportunity for a Hearing in connection with this action was published in the Federal Register on April 18, 2001 (66 FR 19996). No request for a hearing or petition for leave to intervene was filed following this notice.

The Commission has prepared an Environmental Assessment related to the action and has determined not to prepare an environmental impact statement. Based upon the environmental assessment, the Commission has concluded that the issuance of the amendments will not have a significant effect on the quality of the human environment (66 FR 32964, and corrected in 66 FR 33982).

For further details with respect to the action see (1) the application for amendment dated April 3, 2001, (and supplemented by letters dated April 23, May 11, May 25, May 31, and June 25, 2001), (2) Amendments No. 180 to License No. NPF-10, and No. 171 to License No. NPF-15, (3) the Commission's related Safety Evaluation, and (4) the Commission's Environmental Assessment. Documents may be examined, and/or copied for a fee, at the NRC's Public Document Room, located at One White Flint North, 11555 Rockville Pike (first floor), Rockville, Maryland. Publicly available records will be accessible electronically from the Agencywide Documents Access and Management Systems (ADAMS) Public Electronic Reading Room on the Internet at the NRC Web site, http://www.nrc.gov/NRC/ADAMS/index.html. If you do not have access to ADAMS or if there are problems in accessing the documents located in ADAMS, contact the NRC Public Document Room Reference staff at 1-800-397-4209, 301-415-4737 or by email to pdr@nrc.gov.

Dated at Rockville, Maryland, this 6th day of July 2001.
For the Nuclear Regulatory Commission.
Joseph E. Donoghue,
Senior Project Manager, Project Directorate IV, Section 2, Division of Licensing Project Management, Office of Nuclear Reactor Regulation.

[FR Doc. 01-17449 Filed 7-11-01; 8:45 am]

BILLING CODE 7590-01-P